NUCLEAR REGULATORY COMMISSION

[Docket No. 50-312]

Sacramento Municipal Utility District, Rancho Seco Nuclear Generating Station; Notice of Public Meeting on the License Termination Plan

The Nuclear Regulatory Commission (NRC) is providing notice that the NRC staff will conduct a meeting to discuss and accept public comments on the Rancho Seco Nuclear Generating Station (Rancho Seco) License Termination Plan (LTP) on Tuesday, November 14, 2006, at 7 p.m. in a meeting room at the Marriott Courtyard Hotel, 10683 White Rock Road, Rancho Cordova, California.

Rancho Seco initially went critical on September 16, 1974, and began commercial operation on April 18, 1975. In accordance with the results of a public referendum on June 6, 1989, the Sacramento Municipal Utility District (SMUD) decided to permanently shut down the Rancho Seco Nuclear Generating Station. Accordingly, on August 29, 1989, SMUD notified the NRC of its intent to seek amendments to the Rancho Seco operating license to decommission the facility. On March 20, 1995, the NRC issued Rancho Seco's Decommissioning Order. The Order authorized SMUD to decommission Rancho Seco in accordance with the Decommissioning Plan, submitted to the NRC on May 20, 1991. On March 20, 1997, SMUD submitted its Post Shutdown Decommissioning Activities Report (PSDAR), in accordance with 10 CFR 50.82. The PSDAR superseded the original Decommissioning Plan. On August 21, 2002, Rancho Seco completed placing all 493 spent fuel assemblies in dry storage at the onsite Independent Spent Fuel Storage Installation (ISFSI), licensed under 10 CFR Part 72.

In accordance with 10 CFR 50.82(a)(9), all power reactor licensees must submit an application for termination of their license. The application for termination of license must be accompanied or preceded by an LTP to be submitted for NRC approval. If found acceptable by the NRC staff, the LTP is approved by license amendment, subject to such conditions and limitations as the NRC staff deems appropriate and necessary. SMUD submitted the proposed LTP for Rancho Seco with a license amendment application dated April 12, 2006. In accordance with 10 CFR 20.1405 and 10 CFR 50.82(a)(9)(iii), the NRC is providing notice to individuals in the vicinity of the site that the NRC is in receipt of the Rancho Seco LTP, will hold a public meeting, and will accept comments from affected parties.

The Rancho Seco LTP is available for public viewing at the NRC's Public Document Room (PDR) or electronically through the NRC Agencywide Documents Access and Management System (ADAMS) at accession number ML061460053. Documents may be examined, and/or copied for a fee, at the PDR, located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS should contact the NRC PDR Reference staff by telephone at 1-800-397-4209, or 301-415-4737, or by e-mail at pdr@nrc.gov.

Comments or questions regarding the Rancho Seco LTP or the public meeting may be addressed to Mr. John B. Hickman, Mail Stop T-7-E18, Decommissioning and Uranium Recovery Licensing Directorate, Division of Waste Management and Environmental Protection, Office of Federal and State Materials and Environmental Management Programs, U.S. Nuclear Regulatory Commission, Washington, DC 20555-0001, telephone (301) 415-3017 or via e-mail jbh@nrc.gov.

Dated at Rockville, Maryland, this 31st day of October 2006.
For the Nuclear Regulatory Commission,
James Shepherd,
Acting Branch Chief, Reactor Decommissioning Branch, Decommissioning and Uranium Recovery, Licensing Directorate, Division of Waste Management and Environmental Protection, Office of Federal and State Materials and Environmental Management Programs.

[FR Doc. E6-18624 Filed 11-3-06; 8:45 am]

BILLING CODE 7590-01-P